DEPARTMENT OF STATE

[Public Notice 9903]

Proposal To Extend Cultural Property Agreement Between the United States and Belize

AGENCY: Department of State.

ACTION: Notice.

SUMMARY: The Government of Belize has informed the Government of the United States of America of its interest in an extension of the Memorandum of Understanding between the Government of United States of America and the Government of Belize Concerning the Imposition of Import Restrictions on Categories of Archaeological Material Representing the Cultural Heritage of Belize from the Pre-Ceramic (Approximately 9000 B.C.), Pre-Classic, Classic, and Post-Classic Periods of the Pre-Columbian Era through the Early and Late Colonial Periods.

FOR FURTHER INFORMATION CONTACT: The Cultural Heritage Center, Bureau of Educational and Cultural Affairs: 202-632-6301; CulProp@state.gov.

SUPPLEMENTARY INFORMATION: Pursuant to the authority delegated to the Assistant Secretary of State for Educational and Cultural Affairs, and pursuant to 19 U.S.C. 2602(f)(1), the Department proposes an extension of the Memorandum of Understanding with the Government of Belize.

A copy of the Memorandum of Understanding, the Designated List of categories of material restricted from import into the United States, and related information can be found at the Cultural Heritage Center Web site: http://culturalheritage.state.gov.

Mark Taplin,
Acting Assistant Secretary, Bureau of Educational and Cultural Affairs, U.S. Department of State.

[FR Doc. 2017-04960 Filed 3-13-17; 8:45 am]

BILLING CODE 4710-05-P